DEPARTMENT OF THE INTERIOR

Bureau of Land Management

[CACA-48668, 49502, 49503, 49504, LLCAD09000.L51010000.FX0000, LVRWB09B2400]

Notice of Availability of the Proposed California Desert Conservation Area Plan Amendment and Final Environmental Impact Statement for the Ivanpah Solar Electric Generating System, San Bernardino County, California

AGENCY: Bureau of Land Management, Interior.

ACTION: Notice of Availability.

SUMMARY: In accordance with the National Environmental Policy Act of 1969, as amended (NEPA), and the Federal Land Policy and Management Act of 1976, as amended (FLPMA), the Bureau of Land Management (BLM) has prepared a proposed California Desert Conservation Area (CDCA) Plan Amendment/Final Environmental Impact Statement (EIS) for the Ivanpah Solar Electric Generating System (ISEGS) Project and by this notice is announcing its availability.

DATES: The publication of the Environmental Protection Agency's (EPA) Notice of Availability of this Final EIS in the Federal Register initiates a 30-day public comment period (see “ADDRESSES” section). In addition, the BLM planning regulations state that any person who meets the conditions as described in the regulations may protest the BLM's proposed CDCA Plan Amendment. A person who meets the conditions and files a protest must file the protest within 30 days of the date that the EPA publishes its notice of availability in the Federal Register (see “ADDRESSES” section).

ADDRESSES: Please submit comments on the Final EIS to Tom Hurshman, Project Manager, telephone (970) 240-5345; address: Bureau of Land Management, 2465 South Townsend Avenue, Montrose, Colorado 81401 or by e-mail: caisegs@blm.gov. Copies of the proposed CDCA Plan Amendment/Final EIS are available for public inspection at the Needles Field Office, 1303 South Highway 95, Needles, California 92363. Interested persons may also review the CDCA Plan Amendment/Final EIS at the following Web site: http://www.blm.gov/ca/st/en/fo/needles/nefo_nepa.html. All protests of the proposed CDCA Plan Amendment must be in writing and mailed to one of the following addresses:

Regular Mail: BLM Director (210), Attention: Brenda Williams, P.O. Box 66538, Washington, DC 20035.

Overnight Mail: BLM Director (210), Attention: Brenda Williams, 1620 L Street, N.W., Suite 1075, Washington, DC 20036.

FOR FURTHER INFORMATION CONTACT: Tom Hurshman, Project Manager, telephone (970) 240-5345; address Bureau of Land Management, 2465 South Townsend Avenue, Montrose, Colorado 81401; e-mail: caisegs@blm.gov.

SUPPLEMENTARY INFORMATION: BrightSource Energy (BSE) has filed right-of-way (ROW) applications on public land for development of the proposed ISEGS concentrated thermal solar power project that would generate up to 400 megawatts of renewable electricity through the use of 214,000 heliostats. The proposed project would be located on 4,073 acres of public land 4.5 miles south of Primm, Nevada in San Bernardino County, California.

The BLM purpose and need for the ISEGS project EIS is to respond to the application under Title V of the FLPMA (43 U.S.C. 1761) for a ROW grant to construct, operate, maintain, and decommission a concentrated solar electric generation plant and associated infrastructure on public land in compliance with FLPMA, the BLM regulations, and other applicable Federal laws. The BLM will decide to approve, approve with modifications, or deny ROW applications filed by Solar Partners I, LLC; Solar Partners II, LLC; Solar Partners IV, LLC; and Solar Partners VIII, LLC, which are subsidiaries of BSE, to develop the ISEGS project. The CDCA Plan (1980, as amended), while recognizing the potential compatibility of solar power generation facilities on public lands, requires that all sites associated with power generation or transmission not identified in that plan be considered through the plan amendment process. If the BLM decides to grant a ROW, the BLM would also amend the CDCA Plan as required.

The proposed action in the CDCA Plan Amendment/Final EIS is to authorize the ISEGS project and approve the plan amendment in response to the applications received from BSE. The BLM's Preferred alternative is Mitigated Ivanpah 3. The preferred alternative reduces the capacity of the project to 370 megawatts, reduces the number of heliostats to 173,000, and reduces the site disturbance to 3,640 acres in order to reduce impacts to sensitive plant and animal species. In addition to the proposed action and the preferred alternative, the BLM has analyzed an alternative that would relocate a portion of the proposed action closer to the Interstate 15 corridor (Modified I-15 Alternative). As required under NEPA, the CDCA Plan Amendment/Final EIS analyzes a no action alternative that would not require a plan amendment. The BLM has taken into consideration the provisions of the Energy Policy Act of 2005 (EPAct 05) and Secretarial Orders 3283 Enhancing Renewable Energy Development on the Public Lands and 3285A1 Renewable Energy Development by the Department of the Interior in responding to the ISEGS applications.

The applicant has applied to the Department of Energy (DOE) for a loan guarantee under Title XVII of EPAct 05, as amended by Section 406 of the American Recovery and Reinvestment Act of 2009, Pub. L. 111-5. The DOE is a cooperating agency in the preparation of the CDCA Plan Amendment/Final EIS. The BLM published a Notice of Availability of the Draft Ivanpah Solar Electric Generation System EIS and the Draft CDCA Plan Amendment in the Federal Register on November 10, 2009 (74 FR 58043). The Draft EIS was available for a 90-day public comment period which closed on February 11, 2010. Subsequent to the Draft EIS, the BLM published a Notice of Availability of the Supplemental Draft EIS for the Ivanpah Solar Electric Generation System Project in the Federal Register on April 16, 2010 (75 FR 19992), to evaluate the environmental impacts of two additional alternatives. The public comment period on the Supplemental Draft EIS closed on June 1, 2010. Comments received on the Draft EIS and the Supplemental Draft EIS are addressed in the CDCA Plan Amendment/Final EIS. Wilderness characteristics are addressed and analyzed in the CDCA Plan Amendment/Final EIS.

Instructions for filing a protest with the Director of the BLM regarding the proposed CDCA Plan Amendment may be found in the “Dear Reader Letter” of the CDCA Plan Amendment/Final EIS and at 43 CFR 1610.5-2. E-mailed and faxed protests will not be accepted as valid protests unless the protesting party also provides the original letter by either regular or overnight mail postmarked by the close of the protest period. Under these conditions, the BLM will consider the e-mailed or faxed protest as an advance copy and it will receive full consideration. If you wish to provide the BLM with such advance notification, please direct faxed protests to the attention of the BLM protest coordinator at 202-912-7212, and e-mails to Brenda_Hudgens-Williams@blm.gov. All protests, including the follow-up letter to e-mails or faxes, must be in writing and mailed to the appropriate address, as set forth in the ADDRESSES section above.

Before including your phone number, e-mail address, or other personal identifying information in your protest, you should be aware that your entire protest—including your personal identifying information—may be made publicly available at any time. While you can ask us in your protest to withhold your personal identifying information from public review, we cannot guarantee that we will be able to do so.

Authority: 40 CFR 1506.6 and 1506.10 and 43 CFR 1610.2 and 1610.5.

Thomas Pogacnik,
Deputy State Director, Natural Resources.

[FR Doc. 2010-19212 Filed 8-5-10; 8:45 am]

BILLING CODE 4310-40-P